DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of January 5 through January 16, 2009.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-64,289; Classic Moving and Storage, Inc., Boyles Distinctive Furniture, Inc., Conover, NC: October 13, 2007.

TA-W-64,646; Chrysler, LLC, Sterling Stamping Plant, Sterling Heights, MI: December 10, 2007.

TA-W-64,749A; Lane Furniture Industries, Upholstery Division, Verona, MS: December 17, 2007.

TA-W-64,749B; Lane Furniture Industries, Distribution Center, Nettleton, MS: December 17, 2007.

TA-W-64,749; Lane Furniture Industries, Upholstery Division, Saltillo, MS: December 17, 2007.

TA-W-64,754; Klaussner Furniture Industries, Inc., Candor, NC: October 20, 2008.

TA-W-64,801A; Cequent Electrical Products, McAllen, TX: October 30, 2007.

TA-W-64,801; Cequent Electrical Products, Angola, IN: October 30, 2007.

TA-W-64,811; Clayton Marcus Company—Plant 1—Bethlehem, A Division of Rowe Fine Furniture, Hickory, NC: March 22, 2009.

TA-W-64,099; Performance Fibers, Moncure Plant, New Hill, NC: September 22, 2007.

TA-W-64,277; Louisiana-Pacific Corporation, LP Athens OSB Division, Athens, GA: October 23, 2007.

TA-W-64,288; Wabash Magnetics, LLC, Wabash, IN: October 24, 2007.

TA-W-64,357; Le Rocato Manufacturing, Inc., Plainfield, CT: November 23, 2008.

TA-W-64,409; General Electric, Sensing & Inspection Technologies, St. Marys, PA: November 10, 2007.

TA-W-64,475; Texas Foundries Ltd., Subsidiary of Citation Corp., Express Personnel, First, Lufkin, TX: November 10, 2007.

TA-W-64,535; Tricon Timber, LLC, St. Regis, MT: November 24, 2007.

TA-W-64,569; Tower Automotive, LLC, Chicago Division, Chicago, IL: November 7, 2007.

TA-W-64,573; Thomasville Furniture Industries, Furniture Brands International, Appomattox, VA: November 21, 2007.

TA-W-64,583; Service Tool and Die, Inc., Henderson, KY: December 2, 2007.

TA-W-64,627; Old Hickory Tannery, Newton, NC: November 3, 2007.

TA-W-63,902; Belden, Leased Workers From Manpower and PMI, Richmond, IN: July 20, 2007.

TA-W-64,336; Husco International, Inc., Waukesha Division, Waukesha, WI: October 30, 2007.

TA-W-64,372; Mitsubishi Motors North America, Normal, IL: November 6, 2007.

TA-W-64,631; Chrysler, LLC, Detroit Axle Plant, Detroit, MI: December 8, 2007.

TA-W-64,685; Major Sportswear Corporation, Corona, NY: December 12, 2007.

The following certifications have been issued. The requirements of Section 222(a)(2)(B) (shift in production) and Section 246(a)(3)(A)(ii) of the Trade Act have been met.

TA-W-64,221; Hella Electronics Corporation, Leased Workers from Westaff, Flora, IL: October 13, 2007.

TA-W-64,375; Emerson Network Power, Energy Systems Division, Lorain, OH: November 7, 2007.

TA-W-64,490; ITW Impro, Peotone, IL: November 18, 2007.

TA-W-64,537; Mitel Networks Corporation, Inc., Chandler, AZ: November 24, 2007.

TA-W-64,552; Bos Automotive, Morristown, TN: November 17, 2007.

TA-W-64,578; RAD Technologies, Wilmington, MA: December 2, 2007.

TA-W-64,617A; International Textile Group, Inc., Burlington Industries V, Cone Admin. and Sales, New York, NY: December 5, 2007.

TA-W-64,617; International Textile Group, Inc., Burlington Industries V, Cone Admin. and Sales, Greensboro, NC: December 5, 2007.

TA-W-64,638; Textileather Corporation, Toledo, OH: December 9, 2007.

TA-W-64,674; Frito Lay, Inc., A Division of Pepsico, Inc., Mission, TX: December 12, 2007.

TA-W-64,705; Gildan Activewear, Inc., Kentucky Derby Hosiery, Plant 8, Hillsville, VA: January 21, 2008.

TA-W-64,710; Orchid McAllen, LLC, A Subsidiary of Orchid International, McAllen, TX: December 16, 2007.

TA-W-64,720; Hubbell Lenoir City, Inc., Hubbell Power Systems, Hubbell, Inc., San Jose, CA: December 15, 2007.

TA-W-64,728; Le Meubles Villagenis, f/k/a Valco Furniture USA, Malone, NY: December 7, 2007.

TA-W-64,732; Sun Chemical, North American Inks Division, Cheektowaga, NY: December 17, 2007.

TA-W-64,741A; Cuno, Inc., A Subsidiary of 3M Company, Leased Workers from Coworx Staffing, Stafford Springs, CT: December 18, 2007.

TA-W-64,741; Cuno, Inc., A Subsidiary of 3M Company, Leased Workers from Coworx Staffing, Enfield, CT: December 18, 2007.

TA-W-64,757; Ferro Corporation, Inorganic Specialties Division, Toccoa, GA: December 18, 2007.

TA-W-64,812; LuK USA LLC, Wooster, OH: December 19, 2007.

TA-W-64,440; JDSU Uniphase, Inc., San Jose, CA: November 10, 2007.

TA-W-64,386; Victaulic, f/k/a/ Victaulic Company of America, Easton, PA: November 3, 2007.

TA-W-64,410; NeoPhotonics Corporation, Newark, CA: November 10, 2007.

TA-W-64,563; Plastic Specialties and Technologies, Hose Department, Ridgefield, NJ: November 18, 2007.

TA-W-64,577; Novell, Inc., Lebanon, NH: December 2, 2007.

TA-W-64,615; Lydall Thermal/Acoustical, Inc., St. Johnsbury, VT: November 24, 2007.

TA-W-64,722; International Electronics, Inc., Canton, MA: December 12, 2007.

TA-W-64,723; Thomasville Furniture Industries, Inc., Lenoir Plant, Lenoir, NC: December 17, 2007.

TA-W-64,735; Rockwell Collins, Miami Service Base, Miami, FL: December 5, 2007.

TA-W-64,745; HDM Henredon Furniture Industries, Furniture Brands International, Marion, NC: December 18, 2007.

TA-W-64,821; Cone Jacquards, LLC—An ITG Company, Burlington House Division, Cliffside, NC: January 6, 2008.

TA-W-64,837; Bill Blass Ltd, LLC, Couture Division, New York, NY: December 23, 2007.

The following certifications have been issued. The requirements of Section 222(b) (supplier to a firm whose workers are certified eligible to apply for TAA) and Section 246(a)(3)(A)(ii) of the Trade Act have been met.

TA-W-64,347; Freudenberg Nonwovens, LP, Freudenberg Vitech Limited Partnership, Hopkinsville, KY: October 27, 2007.

TA-W-64,471; Lorentson Manufacturing Co, Inc., Kokomo, IN: November 12, 2007.

TA-W-64,538; Meadville Forging Company, LP, A Subsidiary of Keller Group, Inc., Meadville, PA: November 24, 2007.

TA-W-64,597; R. L. Stowe Mills, Inc., Lupton, TN: December 4, 2007.

TA-W-64,668; Tenneco, Inc., Cozad, NE: December 12, 2007.

TA-W-64,714; Globaltex, Inc., Mooresville, NC: December 16, 2007.

TA-W-64,820; Tenneco Automotive, Lease On-Site Leased Workers From Express Personnel & Employment Plus, Evansville, IN: January 6, 2008.

The following certifications have been issued. The requirements of Section 222(b) (downstream producer for a firm whose workers are certified eligible to apply for TAA based on increased imports from or a shift in production to Mexico or Canada) and Section 246(a)(3)(A)(ii) of the Trade Act have been met.

TA-W-64,698; Feralloy Wheeling Specialty Processing Company, A Subsidiary of Feralloy Corporation, Wheeling, WV: December 15, 2007.

Negative Determinations for Alternative Trade Adjustment Assistance

In the following cases, it has been determined that the requirements of 246(a)(3)(A)(ii) have not been met for the reasons specified.

The Department has determined that criterion (1) of Section 246 has not been met. The firm does not have a significant number of workers 50 years of age or older.

None.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-64,617B; International Textile Group, Inc., Burlington Industries V, Cone Admin. and Sales, Colony, TX.

TA-W-64,617C; International Textile Group, Inc., Cone Administration and Sales, San Francisco, CA.

TA-W-64,669; Century Furniture, LLC, Chair Upholstery Campus and Upholstery Div., Hickory, NC.

TA-W-64,693; Avid Industries, Inc., Argyle, MI.

TA-W-64,797; Whatman, GE Healthcare, Sanford, ME.

The investigation revealed that criteria (a)(2)(A)(I.B.) (Sales or production, or both, did not decline) and (a)(2)(B)(II.B.) (shift in production to a foreign country) have not been met.

TA-W-64,441; Decca Classic Upholstery, Decca Furniture USA, High Point, NC.

TA-W-64,726; Surgrx, Inc., Ethicon Endo-Surgery, Redwood City, CA.

The investigation revealed that criteria (a)(2)(A)(I.C.) (increased imports) and (a)(2)(B)(II.B.) (shift in production to a foreign country) have not been met.

TA-W-64,302; International Paper, Container Division, Mason, OH.

TA-W-64,309; General Motors Corporation, Vehicle Mfg Div., Janesville WI Assembly Plant 1, Janesville, WI.

TA-W-64,387; USG Interiors, USG Corporation, Cloquet, MN.

TA-W-64,396; Cerro Flow Products, Inc., Sauget, IL.

TA-W-64,428; West Penn Plastic, Inc., New Castle, PA.

TA-W-64,435; Thiele Manufacturing, LLC, A Subsidiary of Gemini Holdings, Windber, PA.

TA-W-64,452; Kensington Windows, Inc., Jancor Companies, Inc., Vandergrift, PA.

TA-W-64,461; Chrysler Corp, Newark Assembly, Newark, DE.

TA-W-64,566; Chicago Park Plastics, A Subsidiary of Summit Polymers, Chicago, IL.

TA-W-64,600; Janna Ugone Associates, Easthampton, MA.

TA-W-64,748; Timber Products, Spectrum Division, White City, OR.

The workers' firm does not produce an article as required for certification under Section 222 of the Trade Act of 1974.

TA-W-64,374; GE Healthcare Integrated IT Solutions, USA, Enterprise Solutions, Seattle, WA.

TA-W-64,393; Nikko America, Dallas, TX.

TA-W-64,511; Mannatech Inc., Coppell, TX.

TA-W-64,560; Bel-ORO International, Richline Group, New York, NY.

TA-W-64,567; QIS, Inc., Chicago, IL.

TA-W-64,605; International Rehabilitative Sciences, Inc., Vancouver, WA.

TA-W-64,683; The Ascent Services Group, Walnut Creek, CA.

TA-W-64,707; GMAC Financial Services, Michigan Business Center, Auburn Hills, MI.

TA-W-64,717; ABB, Inc., Robotics Rebuild Dept., Auburn Hills, MI.

TA-W-64,759; Formica Corporation, Rocklin, CA.

TA-W-64,823; Martin Transportation Systems, Huber Heights, OH.

The investigation revealed that criteria of Section 222(b)(2) has not been met. The workers' firm (or subdivision) is not a supplier to or a downstream producer for a firm whose workers were certified eligible to apply for TAA.

None.

I hereby certify that the aforementioned determinations were issued during the period of January 5 through January 16, 2009. Copies of these determinations are available for inspection in Room N-5428, U.S. Department of Labor, 200 Constitution Avenue, NW., Washington, DC 20210. During normal business hours or will be mailed to persons who write to the above address.

Dated: January 23, 2009.
Linda G. Poole,
Certifying Officer, Division of Trade Adjustment Assistance.

[FR Doc. E9-2128 Filed 1-30-09; 8:45 am]

BILLING CODE 4510-FN-P